DEPARTMENT OF THE INTERIOR

Bureau of Ocean Energy Management

30 CFR Part 285

[Docket ID: BOEM-2010-0045]

RIN 1010-AD71

Regulation and Enforcement; Renewable Energy Alternate Uses of Existing Facilities on the Outer Continental Shelf—Acquire a Lease Noncompetitively

AGENCY: Bureau of Ocean Energy Management, Regulation and Enforcement (BOEMRE), Interior.

ACTION: Withdrawal of direct final rule.

SUMMARY: BOEMRE is withdrawing the direct final rule to amend BOEMRE's renewable energy regulatory provisions that pertain to noncompetitive acquisition of leases, published on November 26, 2010 (75 FR 72679), under Docket ID: BOEM-2010-0045. In the direct final rule, BOEMRE stated that if it received significant adverse comments during the rule's 30-day comment period, it would publish a notice of withdrawal in the Federal Register.

BOEMRE has determined that it has received significant adverse comments during the comment period and, therefore, is withdrawing the direct final rule. BOEMRE intends to publish a notice of proposed rulemaking within 30 days of the date of this notice in order to reinitiate rulemaking. The proposed rule will have a 30-day public comment period. All comments received in response to the original November 26, 2010, notice will be considered in relation to the proposed rule unless they are withdrawn by the commenters, so those who commented on the original November 26, 2010, direct final rule need not re-submit their comments.

However, parties who responded to the November 26, 2010, notice may submit additional comments on the proposed rulemaking.

FOR FURTHER INFORMATION CONTACT: Timothy Redding at (703) 787-1219.

Dated: January 18, 2011.
Michael R. Bromwich,
Director, Bureau of Ocean Energy Management, Regulation and Enforcement.

[FR Doc. 2011-1505 Filed 1-24-11; 8:45 am]

BILLING CODE 4310-MR-P